DEPARTMENT OF DEFENSE

Department of the Army

Availability of Non-Exclusive, Exclusive, or Partially Exclusive Licensing of U.S. Patent Concerning a Multiple Pass Faraday Rotation Amplifier

Correction

In notice document 07-1276 appearing on page 12597 in the issue of Friday, March 16, 2007, make the following correction:

On page 12597, in the third column, in the third line, “susan.mcrae@army.mil” should read “susan.mcrae@smdc.army.mil”.

[FR Doc. C7-1276 Filed 3-28-07; 8:45 am]

BILLING CODE 1505-01-D

DEPARTMENT OF DEFENSE

Department of the Army

Notice of Availability of the Fort Bliss, Texas and New Mexico, Mission Master Plan Final Supplemental Programmatic Environmental Impact Statement

Correction

In notice document 07-1432 appearing on page 13751 in the issue of Friday, March 23, 2007, make the following corrections:

1. On page 13751, in the first column, under SUPPLEMENTARY INFORMATION, in the first paragraph, in the third line from the bottom of the paragraph, “analyses” should read “analyzes”.

2. On the same page, in the second column, in the third paragraph, in the fifth line from the bottom of the paragraph, “ore” should read “more”.

3. On the same page, in the same column, in the fifth paragraph, in the fifth line from the bottom of the paragraph, “299 McFie” should read “2999 McFie”.

[FR Doc. C7-1432 Filed 3-28-07; 8:45 am]

BILLING CODE 1505-01-D

DEPARTMENT OF TRANSPORTATION

Federal Aviation Administration

14 CFR Part 39

[Docket No. FAA-2006-25105; Directorate Identifier 2006-CE-33-AD; Amendment 39-14982; AD 2007-06-01]

RIN 2120-AA64

Airworthiness Directives; Raytheon Aircraft Company Beech Models 45 (YT-34), A45 (T-34A, B-45), and D45 (T-34B) Airplanes

Correction

In rule document 07-1106 beginning on page 10909 in the issue of Monday, March 12, 2007, make the following correction:

§ 39.13 [Corrected]

On page 10912, in the first column, in § 39.13(e)(2), in the first column of the table, in the last line of the column, “AD-24-01” should read “AD 62-24-01”.

[FR Doc. C7-1106 Filed 3-28-07; 8:45 am]

BILLING CODE 1505-01-D